FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Application for Employment with the Board of Governors of the Federal Reserve System (FR 28 and FR 28i; OMB No. 7100-0181). On June 15, 1984, the Office of Management and Budget (OMB) delegated to the Board authority under the Paperwork Reduction Act (PRA) to approve of and assign OMB control numbers to collection of information requests and requirements conducted or sponsored by the Board. In exercising this delegated authority, the Board is directed to take every reasonable step to solicit comment. In determining whether to approve a collection of information, the Board will consider all comments received from the public and other agencies.

DATES: Comments must be submitted on or before September 26, 2017.

ADDRESSES: You may submit comments, identified by FR 28, FR 28s, or FR 28i by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• Fax: (202) 452-3819 or (202) 452-3102.

• Mail: Ann E. Misback, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room 3515, 1801 K Street (between 18th and 19th Streets NW.,) Washington, DC 20006 between 9:00 a.m. and 5:00 p.m. on weekdays.

Additionally, commenters may send a copy of their comments to the OMB Desk Officer—Shagufta Ahmed—Office of Information and Regulatory Affairs, Office of Management and Budget, New Executive Office Building, Room 10235, 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposal

The Board invites public comment on the following information collection, which is being reviewed under authority delegated by the OMB under the PRA. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Federal Reserve should modify the proposed revisions prior to giving final approval.

Proposal To Approve Under OMB Delegated Authority the Extension for Three Years, With Revision, of the Following Report

Report title: Application for Employment with the Board of Governors of the Federal Reserve System.

Agency form number: FR 28, FR 28s, FR 28i.

OMB control number: 7100-0181.

Frequency: As needed.

Respondents: Individuals.

Estimated number of respondents: FR 28: 3,500, FR 28s: 2,000, FR 28i: 300.

Estimated average hours per response: FR 28: 1 hour, FR 28s: 1 minute, FR 28i: 15 minutes.

Estimated annual burden hours: FR 28: 3,500 hours, FR 28s: 33 hours, FR 28i: 75 hours, Total: 3,608 hours.

General Description of Report: The Application for Employment with the Board of Governors of the Federal Reserve System (Application) collects information to determine the qualifications and availability of applicants for employment with the Board of Governors of the Federal Reserve System (Board). The FR 28 collects information on education and training, employment record, military service record, and other information since the time the applicant left high school. Included with the FR 28 are two supplemental questionnaires: (1) The Applicant's Voluntary Self-Identification Form (FR 28s), which collects information on the applicant's gender and ethnic group and (2) The Research Assistant Candidate Survey of Interests (FR 28i), which collects information from candidates applying for Research Assistant (RA) positions on their level of interest in economics and related areas. The Board receives approximately 3,500 applications per year, both solicited and unsolicited, from members of the public who would like to be considered for employment at the Board. Since the applicant is usually either hired by the Board or finds other employment within the two years that the Board retains the Application, the applicant generally files the Application once.

The Application is comprised of eight sections: Background, Education and Training, Employment Record, Military Service Record, References, General, Remarks, and Notes. The first six sections collect information on specific aspects of the applicant's qualifications. The Background section collects name, address, telephone, and citizenship information and the position for which the applicant is applying. The Education and Training section collects detailed information on the applicant's educational history and skills set. The Employment Record section collects a chronological summary of work experience. The Military Service Record section collects information on service branch, rank, duties, and discharge. The References section collects information on three references. The General section collects information on criminal records, discharge from employment, willingness to travel, and relations to or acquaintances with Board staff or officers and directors of financial institutions. The Remarks section provides the applicant an opportunity to provide further information regarding his or her qualifications. The Notes section explains what is required of the applicant prior to an interview and what may be required of the applicant if he or she is offered a position (for example, transcripts, medical examination, or drug test).

The FR 28s is comprised of four sections: (1) Name and gender, in which applicants are asked to check the box that corresponds to their gender or check “I do not wish to disclose”, (2) position for which the applicant is applying, (3) ethnicity self-identification, in which applicants are asked to choose between Hispanic or Latino or Not Hispanic or Latino, or “I do not wish to disclose,” and (4) race self-identification, in which applicants are asked to choose one or more among American Indian or Alaskan Native, Asian, Black or African-American, Native Hawaiian or Other Pacific Islander, White, or “I do not wish to disclose.” The Board uses this information to comply with federal equal employment opportunity (EEO) recordkeeping and reporting requirements, other legal requirements, and as an input to its self-analysis of hiring practices. Information collected on the FR 28s has no bearing on the determination of an applicant's job-related qualifications and completion of the self-identification form is voluntary.

The FR 28i is comprised of three sections in which research assistant candidates are asked to rate their level of interest in categories of economics and related research areas, experience with various software packages and statistical programming languages, and interest in pursuing educational opportunities after leaving the Board. The FR 28i helps to streamline the recruitment process.

Proposed revisions: The Board proposes four changes to the FR 28 form: (1) Adding fields in the employment history section for job type, shift, employee status, and desired compensation; (2) adding fields in the education and training section for issue and expiration date for certifications and professional licenses; (3) adding fields in the references section for relationship, type, and length of relationship with the reference; and (4) adding fields in the submission section to allow for withdrawal of the application and a request for the applicant to provide a reason for withdrawal.

The Board proposes to revise the FR 28i questionnaire by adding a section to allow an open-ended response by applicants to describe how they've demonstrated attributes that are displayed by successful research assistants in the Economics Divisions.

Legal authorization and confidentiality: The Board's Legal Division has determined that the Application (including the two supplemental questionnaires) is required to obtain the benefit of Board employment. It is authorized pursuant to sections 10(4) and 11(1) of the Federal Reserve Act, which provide the Federal Reserve Board broad authority over employment of staff. (12 U.S.C. 244 and 248(l)). Information provided on the Application (including the two supplemental questionnaires) will be kept confidential under exemption (b)(6) of the Freedom of Information Act (FOIA) to the extent that the disclosure of information “would constitute a clearly unwarranted invasion of personal privacy.” (5 U.S.C. 552(b)(6)). However, the release of information such as the educational and professional qualifications of applicants would not likely constitute a clearly unwarranted invasion of personal privacy and would not be kept confidential.

Board of Governors of the Federal Reserve System, July 24, 2017.
Ann E. Misback,
Secretary of the Board.

[FR Doc. 2017-15875 Filed 7-27-17; 8:45 am]

BILLING CODE 6210-01-P